DEPARTMENT OF COMMERCE

National Oceanic and Atmospheric Administration

[RTID 0648-XA755]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day webinar meeting to consider actions affecting the Gulf of Mexico fisheries in the exclusive economic zone (EEZ).

DATES: The webinar will convene Monday, January 25 through Thursday, January 28, 2021; 9 a.m. until 5 p.m. EST.

ADDRESSES: The meeting will take place via webinar; you may access the log-on information at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, January 25, 2021; 9 a.m.-5 p.m.

The meeting will begin with the Administrative/Budget Committee discussing the reappointment of the Reef Fish and Shrimp Advisory Panels due in 2021; review 2020 Budget and Expenditures; discuss logistics and estimated costs of conducting a Gulf-wide Fishery-Independent Offshore Abundance Study on Red Drum and an Independent Stock Assessment (i.e., outside SEDAR) Process for Gray Triggerfish; and, review of 2021 Projected Budget and Activities.

Sustainable Fisheries Committee will review Final Action Amendment Reef Fish 48/Red Drum 5: Status Determination Criteria and Optimum Yield for Reef Fish and Red Drum, SSC Recommendations on Interim Analyses Species and Timing, and Standardized Bycatch Reporting Methodology for the Gulf of Mexico and Joint Fishery Management Plans.

Outreach and Education Committee will receive a presentation on Communication Analytics; review 2021 Council Communications Plan; discuss Fish Science Pages and State Data Collection Infographics; receive a presentation on the Next O&E Projects; Update on Fish Rules Commercial; and receive a meeting summary report from Outreach and Education Technical Committee.

Mackerel Committee will receive an update on Coastal Migratory Pelagics Landings; review Draft Document: Coastal Migratory Pelagics Amendment 32; discuss Gulf of Mexico King Mackerel.

Tuesday, January 26, 2021; 9 a.m.-5 p.m.

Reef Fish Committee will review Reef Fish and Individual Fishing Quota (IFQ) Program Landings, Implementation of National Environment Protection Act (NEPA Modernization, review Final Action items Framework Action: Modification of Gray Triggerfish Catch Limits, Framework Action: Modification of the Gulf of Mexico Lane Snapper Catch Limits and Accountability Measures, and Framework Action: Adjust State Recreational Red Snapper Catch Limits.

The Reef Fish Committee will review SEDAR 70-Gulf of Mexico Greater Amberjack Stock Assessment and a White Paper on Sector Separation for Four Reef Fish Species.

The Gulf of Mexico Fishery Management Council and National Oceanic and Atmospheric Administration/National Marine Fisheries Service (NOAA/NMFS) will hold an informal Question and Answer session immediately following the Reef Fish Committee.

Wednesday, January 27, 2021; 9 a.m.-5 p.m.

Reef Fish Committee will reconvene to review SEDAR 64—Stock Assessment Report and SSC Recommendations on Southeastern U.S. Yellowtail Snapper, Public Hearing Draft Amendment 53: Red Grouper Allocations and Annual Catch Level and Catch Targets, and discuss any remaining items from SSC Summary Report.

After lunch, Full Council Session will convene with a Call to Order, Announcements, Introductions and a Presentation of the 2019 Law Enforcement Officer of the Year Award. The Council will continue with Adoption of Agenda, Approval of Minutes; and receive a presentation on Deepwater Horizon Open Ocean Fish Restoration and an update on Southeast For-hire Electronic Reporting (SEFHIER) Program.

The Council will hold public testimony beginning at approximately 2:30 p.m.-5:00 p.m., EST for comments on Final Action Amendment Reef Fish 48/Red Drum 5: Status Determination Criteria and Optimum Yield for Reef Fish and Red Drum; Final Action: Framework Action: Adjust State Recreational Red Snapper Catch Limits; Final Action: Framework Action: Modification of Gray Triggerfish Catch Limits; and, Final Action: Framework Action: Modification of the Gulf of Mexico Lane Snapper Catch Limits and Accountability Measures; and, and open testimony on other fishery issues or concerns. Public comment may begin earlier than 2:30 p.m. EST but will not conclude before that time. Persons wishing to give public testimony must follow the instructions on the Council website before the start of the public comment period at 2:30 p.m. EST.

Thursday, January 28, 2021; 9 a.m.-4 p.m.

The Council will receive committee reports from Administrative/Budget, Outreach and Education, Mackerel, Sustainable Fisheries, and Reef Fish Committees.

The Council will receive updates from the following supporting agencies: South Atlantic Fishery Management Council; NOAA Office of Law Enforcement (OLE); Louisiana Law Enforcement Efforts; Gulf States Marine Fisheries Commission; U.S. Coast Guard; U.S. Fish and Wildlife Service; and Department of State.

The Council will receive then discuss any Other Business items.

— Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

Authority: 16 U.S.C. 1801 et seq.

Dated: January 5, 2021.
Rey Israel Marquez,
Acting Deputy Director, Office of Sustainable Fisheries, National Marine Fisheries Service.

[FR Doc. 2021-00211 Filed 1-8-21; 8:45 am]

BILLING CODE 3510-22-P